NATIONAL SCIENCE FOUNDATION

Sunshine Act Meetings

The National Science Board (NSB and, the NSB Committee on Strategy (CS) hereby give notice of the scheduling of meetings for the transaction of National Science Board business pursuant to the National Science Foundation Act and the Government in the Sunshine Act.

TIME AND DATE: Wednesday, July 24, 2024, from 8:45 a.m.-5:25 p.m. and Thursday, July 25, 2024, from 8:00 a.m.-10:00 a.m. Eastern.

PLACE: These meetings will be held at NSF headquarters, 2415 Eisenhower Avenue, Alexandria, VA 22314, and by videoconference. If the COVID status for Alexandria, Virginia goes to “high,” please fill out and bring OMB's certification of vaccination form with you. All open sessions of the meeting will be webcast live on the NSB YouTube channel.

July 24, 2024: https://youtube.com/live/DVtbQLYJBY0?feature=share.

July 25, 2024: All sessions on day 2 are closed.

STATUS: Parts of these meetings will be open to the public. The rest of the meetings will be closed to the public. See full description below.

MATTERS TO BE CONSIDERED:

Wednesday, July 24, 2024

Plenary Board Meeting

Open Session: 8:45 a.m.-3:00 p.m.

• NSB Chair's Opening Remarks

○ Welcome

○ Agenda Preview

○ Opening Address

• NSF Director's Opening Remarks

○ Highlights of NSF Thematic Priorities

○ Engagements

○ Senior Staff introductions

• NSB External Panel—Changed S & E Landscape-Seizing the Opportunities

• NSF Update on Sexual Assault & Harassment Prevention Response

• Approval of May 2024 Open Meeting Minutes

• 2024 NSB Meeting Dates and Vote

• NSB Committee Reports

• Committee on External Engagement

○ Highlights of engagement initiatives

• Committee on Science and Engineering Policy

○ Indicators 2026

• Committee on Awards and Facilities

○ Antarctic Science and Engineering Support Contract Update

• NSB-NSF Commission on Merit Review

○ Overview of Commission Work

Plenary Board Meeting

Closed session: 3:05 p.m.-4:10 p.m.

• NSB Chair's remarks

• NSF Director's Remarks

○ Agency Operating Status

• Approval of May 2024 closed meeting minutes

• Committee Reports

○ Committee on Awards and Facilities

○ Antarctic Infrastructure Update

○ Committee on Strategy

○ Long-term planning and FY 2026 Budget Development

Committee on Strategy

Closed session: 4:10 p.m.-5:25 p.m.

• Budget Update FY 2025

• Initial Discussion of the Budget Submission FY 2026

Thursday, July 25, 2024

Plenary Board Meeting

Closed session: 8:00a.m.-9:00 a.m.

• NSB Chair's Welcome

• Commission Report

○ NSB-NSF Commission on Merit Review

○ Discussion of preliminary implementation and accountability suggestions

• Vote to enter Executive Plenary Closed Session

Executive closed session: 9:00 a.m.-10:00 a.m.

• NSB Chair's Remarks

• Approval of May 2024 Executive Plenary Closed Minutes

• Director's Remarks

• Organizational updates

• Board Elections

• Executive Committee seat

• NSB Chair's closing remarks

Plenary Meeting Adjourns: 10:00 a.m.

Committee on Strategy

Closed session: 1:55 p.m.-2:30 p.m.

• Presentation and discussion of updated FY 2026 performance measures

Portions Open to the Public:

Wednesday, July 24, 2024

8:45 a.m.-3:00 p.m. Plenary NSB

Portions Closed to the Public:

Wednesday, July 24, 2024

3:05 p.m.-3:55 p.m. Plenary NSB

4:10 p.m.-5:25 p.m. Committee on Strategy

Thursday, July 25, 2024

8:00 a.m.-9:00 a.m. Plenary NSB

9:00 a.m.-10:00 a.m. Executive Plenary closed

1:55 p.m.-2:30 p.m. Committee on Strategy

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from noticed times by more than 15 minutes.

CONTACT PERSON FOR MORE INFORMATION: The NSB Office contact is Christopher Blair, cblair@nsf.gov, 703-292-7000. The NSB Public Affairs contact is Nadine Lymn, nlymn@nsf.gov, 703-292-2490. Please refer to the NSB website for additional information: https://www.nsf.gov/nsb.

Ann E. Bushmiller,
Senior Legal Counsel to the National Science Board.

[FR Doc. 2024-16099 Filed 7-18-24; 8:45 am]

BILLING CODE 7555-01-P